DEPARTMENT OF HEALTH AND HUMAN SERVICES

National Institutes of Health Statement of Organization, Functions, and Delegations of Authority

Part N, National Institutes of Health, of the Statement of Organization, Functions, and Delegations of Authority for the Department of Health and Human Services (40 FR 22859, May 27, 1975, as amended most recently at 66 FR 6617, January 22, 2001, and redesignated from Part HN as Part N at 60 FR 56605, November 9, 1995), is amended as set forth below to rename the National Center on Minority Health and Health Disparities (NCMHD) as the National Institute on Minority Health and Health Disparities (NIMHD) and to amend its functional statement. The Public Health Service Act (42 U.S.C. 281 et seq.), as amended by Public Law 111-148, § 10334(c), provides the authorities of the Institute.

Section N-B, Organization and Functions, under the heading National Center on Minority Health and Health Disparities (NCMHD) (NE, formerly HNE), is revised as follows:

National Institute on Minority Health and Health Disparities (NIMHD) (NE, formerly HNE). (1) Conducts and supports research, training, information dissemination, and other programs including centers of excellence, loan repayment, research endowment, and community-based participatory research initiatives, with respect to minority health conditions and other populations with health disparities; (2) Plans, coordinates, reviews, and evaluates research and other activities on minority health and health disparities conducted or supported by the NIH Institutes and Centers (ICs), consistent with the NIMHD's authorizing statute; (3) In collaboration with the NIH Director and other IC Directors, and in consultation with the NIMHD advisory council, develops a comprehensive strategic plan and budget that identifies and establishes priorities, objectives, budgets, and policy statements for the conduct and support of all NIH minority health and health disparities research activities, and ensures that all amounts appropriated for such activities are expended in accordance with the strategic plan and budget; (4) In collaboration with the NIH Director and other IC Directors, and in consultation with the NIMHD advisory council, promotes coordination and collaboration among ICs conducting or supporting minority health or other health disparities research; (5) Provides leadership for a national and international program on minority health and health disparities research; (6) Represents the NIH minority health and health disparities research program at all relevant Executive Branch task forces, committees, and planning activities; (7) Develops and maintains a Health Disparities Information (HDI) database to facilitate the collection of data, translation of research, education, dissemination, and communication of information to various audiences, including the Public Health Service (PHS) and other Federal agencies, on minority health and health disparities research, advances, and other activities including those planned, conducted, or supported by the NIH; (8) Establishes projects to promote cooperation among Federal agencies, State, local, tribal, and regional public health agencies, and private entities in health disparities research; (9) Develops and revises, as necessary, the national definition for health disparity population in consultation with the Agency for Healthcare Research and Quality; (10) Provides leadership for the implementation of the Minority Health and Health Disparities Research and Education Act (Pub. L. 106-525) and the Patient Protection and Affordable Care Act (Pub. L. 111-148) and other relevant public laws as they relate to the NIMHD mission and the NIH minority health and health disparities research and activities.

Delegations of authority statement: All delegations and redelegations of authority to officers and employees of NIH that were in effect immediately prior to the effective date of this reorganization and are consistent with this reorganization shall continue in effect, pending further redelegation.

Dated: August 4, 2010.
Kathleen Sebelius,
Secretary.

[FR Doc. 2010-22666 Filed 9-10-10; 8:45 am]

BILLING CODE 4140-01-P